ENVIRONMENTAL PROTECTION AGENCY

40 CFR Part 300

[FRL-7777-3]

National Oil and Hazardous Substances Pollution Contingency Plan; National Priorities List

AGENCY: Environmental Protection Agency.

ACTION: Direct Final Deletion of the property known as 475 South Jefferson Street in Orange, New Jersey as a partial deletion of the U.S. Radium Corp. Superfund Site from the National Priorities List.

SUMMARY: The Environmental Protection Agency (EPA), Region 2, announces the deletion of the property known as 475 South Jefferson Street in Orange, New Jersey, which is part of Operable Unit Two of the U.S. Radium Corp. Superfund Site, from the National Priorities List (NPL) and requests public comment on this action. The U.S. Radium Corp. Site is listed on the NPL as located in Orange, New Jersey, but is composed of contiguous and non-contiguous properties in the municipalities of Orange, West Orange, and South Orange. The NPL constitutes Appendix B to the National Oil and Hazardous Substances Pollution Contingency Plan (NCP), 40 CFR part 300, which EPA promulgated pursuant to section 105 of the Comprehensive Environmental Response, Compensation, and Liability Act of 1980 (CERCLA), as amended. This Direct Final Notice of partial deletion of the U.S. Radium Corp. Site is proposed in accordance with 40 CFR 300.425(e) and the Notice of Policy Change: Partial Deletion of Sites Listed on the National Priorities List. 60 FR 55466 (Nov. 1, 1995).

This deletion pertains to the property known as 475 South Jefferson Street in Orange, New Jersey (Block 158, Lot 21), which is located at the corner of South Jefferson Street and Nassau Street. EPA and the State of New Jersey, through the Department of Environmental Protection, have determined that all appropriate remedial actions under CERCLA have been completed at 475 South Jefferson Street and no further cleanup pursuant to CERCLA is appropriate. This partial deletion covers only the property known as 475 South Jefferson Street; all other properties and operable units remain on the NPL.

DATES: This direct final partial deletion will be effective August 23, 2004, unless EPA receives significant adverse comments by July 26, 2004. If significant adverse comments are received, EPA will publish a timely withdrawal of the direct final partial deletion in the Federal Register, informing the public that the deletion will not take effect.

ADDRESSES: Comments should be mailed to: Stephanie Vaughn, Remedial Project Manager, New Jersey Remediation Branch, Emergency and Remedial Response Division, U.S. Environmental Protection Agency, Region 2, 290 Broadway, 19th Floor, New York, New York 10007-1866.

Comprehensive information on the U.S. Radium Corp. Site is available for viewing, by appointment only, at: U.S. EPA Records Center, 290 Broadway—18th Floor, New York, New York 10007-1866.

Hours: 9 a.m. to 5 p.m.—Monday through Friday. Contact the Records Center at (212) 637-4308.

Information is also available for viewing at the Information Repository located at: Orange Public Library, 348 Main Street, Orange, New Jersey 07050.

FOR FURTHER INFORMATION CONTACT: Stephanie Vaughn, Remedial Project Manager, U.S. Environmental Protection Agency, Region 2, 290 Broadway, 19th Floor, New York, New York 10007-1866, phone: (212) 637-3914; fax: (212) 637-4393; e-mail: vaughn.stephanie@epa.gov.

SUPPLEMENTARY INFORMATION:

Table of Contents

I. Introduction

II. NPL Deletion Criteria

III. Deletion Procedures

IV. Basis for Intended Partial Site Deletion

I. Introduction

The United States Environmental Protection Agency (EPA) Region 2 announces the deletion of the property known as 475 South Jefferson Street in Orange, New Jersey which is a portion of the U.S. Radium Corp. Superfund Site (Site), Operable Unit Two, listed as located in Orange, New Jersey, from the National Priorities List (NPL). EPA maintains the NPL as the list of those sites that appear to present a significant risk to public health or the environment. This partial deletion pertains only to the property known as 475 South Jefferson Street, located in Orange, New Jersey (Block 158, Lot 21), at the corner of South Jefferson Street and Nassau Street. The property includes a six-story building and a paved parking lot. This partial deletion covers only the property known as 475 South Jefferson Street; all other properties and operable units remain on the NPL.

EPA considers this action to be noncontroversial and routine, and therefore, EPA is taking it without prior publication of a Notice of Intent to Delete. The action will be effective August 23, 2004, unless EPA receives significant adverse comments by July 26, 2004, on this action or the parallel Notice of Intent to Delete published in the Notice section of today's Federal Register. If significant adverse comments are received within the 30-day public comment period, EPA will publish a timely withdrawal of this Direct Final Deletion before the effective date of deletion and the deletion will not take effect. EPA will, if appropriate, prepare a response to the comments received and will continue the deletion process on the basis of the Notice of Intent to Delete and the comments received. There will be no additional opportunities to comment.

Section II explains the criteria for deleting sites from the NPL, and Section III describes the procedures that EPA is using for this action. Section IV discusses the property and demonstrates how it meets the deletion criteria.

II. NPL Deletion Criteria

Section 300.425(e) of the NCP and the Notice of Policy Change: Partial Deletion of Sites Listed on the National Priorities List provides that properties may be deleted from the NPL where no further response is appropriate. In making this determination, EPA, in consultation with the State, will consider whether any of the following criteria has been met:

(i) Responsible parties or other persons have implemented all appropriate response actions required; or

(ii) All appropriate Fund-financed response under CERCLA has been implemented, and no further response action by responsible parties is appropriate; or

(iii) The remedial investigation has shown that the release poses no significant threat to public health or to the environment and, therefore, taking of remedial measures is not appropriate.

EPA proposes to delete this portion of the Site because all appropriate CERCLA response activities have been completed on this property. If new information becomes available which indicates the need for further action, EPA may initiate such actions under Section 300.425(e)(3) of the NCP. Pursuant to 40 CFR 300.425(e) of the NCP, any Site or portion of a Site deleted from the NPL remains eligible for Fund-financed remedial actions if conditions at the Site warrant such action.

III. Deletion Procedures

The following procedures apply to the proposed deletion of the property known as 475 South Jefferson Street.

1. The Site was listed on the NPL in September 1983.

2. EPA selected a remedy for the Site, which included this property, in a Record of Decision (ROD) dated August 29, 1995. The remedy called for removal of radiological contamination at Operable Unit 2 of the Site.

3. 475 South Jefferson Street consists of a six-story commercial building located approximately three miles from the former U.S. Radium Corporation facility. Radiological contamination was found only on the sixth floor of the building and in a small section of the parking lot located at the rear of the building.

4. The remediation of 475 South Jefferson Street was conducted during Phase Six of the overall Site cleanup. Remedial work on the property began in January 2002 and was substantially complete in May 2003. It involved the removal of radiologically-contaminated material from the floor and walls of the sixth floor of the property, as well as from the affected area of the parking lot. A Remedial Action Report for the sixth phase of the cleanup was signed on September 25, 2003.

5. EPA recommends the deletion of this portion of the U.S. Radium Corp. Site and has prepared the relevant documents.

6. The State of New Jersey, through the New Jersey Department of Environmental Protection, has concurred with the deletion decision in a letter dated May 27, 2004.

7. Concurrent with this direct final partial deletion, a notice has been published in a local newspaper and appropriate notice has been distributed to Federal, State and local officials, and other interested parties. This notice announces a thirty-day public comment period on the deletion, which starts on the date of publication of this notice in the Federal Register and a newspaper of record.

8. EPA has placed all relevant Site documents in the Site information repositories identified above.

9. Concurrent with this action a notice of intent for partial deletion has been published in today's Federal Register. Upon completion of the thirty (30) day public comment period, EPA will review all comments received. If significant adverse comments are received concerning this action, the notice of intent to delete, the local notice, or the notice provided to Federal, State, and local officials and other interested parties, EPA will publish a timely notice of withdrawal of this Direct Final Deletion before its effective date. EPA will prepare, if appropriate, a response to comments and continue with the deletion process on the basis of the notice of intent to delete and the comments received.

Deletion of a Site, or portion of a Site, from the NPL does not itself create, alter, or revoke any person's rights or obligations. Deletion from the NPL does not alter EPA's right to take appropriate enforcement actions. The NPL is designed primarily for informational purposes and to assist Agency management.

IV. Basis for Intended Partial Site Deletion

The following summary provides EPA's rationale for deletion of the portion of the U.S. Radium Corp. Site located at 475 South Jefferson Street from the NPL and EPA's finding that the criteria in 40 CFR 300.425(e) are satisfied:

The former U.S. Radium Corporation plant site was a radium-processing facility where extraction, production, application, and distribution took place from about 1915 through 1926. In addition, radium-contaminated soils and debris have been identified at more than 240 noncontiguous properties in the vicinity of the plant site and at various satellite locations throughout the municipalities of Orange, West Orange and South Orange. Investigations to identify other radium-contaminated properties associated with the site have covered approximately 650 properties and are still on-going. The noncontiguous vicinity and satellite properties are occupied by residences, light industries, offices, grocery stores, and apartment buildings.

Soil and building materials contain radium-226 and other radioactive materials. The radium-226 decays to radon gas and radon decay products which can concentrate in basements and other ground-level enclosed spaces. Residents who are directly exposed to radiation, inhale radioactive dust particles, or inadvertently ingest radioactive particles from the Site may suffer adverse health effects in the form of an increased risk of certain types of cancer. Workers and customers of commercial properties would be similarly affected.

Remedies for the Site were selected in two Records of Decision, signed in September 1993 and August 1995. The remedial action involves the excavation and off-site disposal of radium-contaminated material at the plant site and at affected Satellite properties. This is the final remedy for these properties. Ground water under these properties will be addressed by a separate operable unit and remains included in the NPL listing.

The long-term soil remedy has been divided into phases. Phase 6 of the remedy, which included the property known as 475 South Jefferson Street, began in September 2001 and was completed in September 2003.

All known radiological contamination has been removed from 475 South Jefferson Street. No radiological contamination is known to remain on this property or the properties surrounding it. All restoration and maintenance activities have been completed on this property and no further work is required as part of the cleanup of the U.S. Radium Corp. Site. Information about this work is contained in a Remedial Action Report dated September 2003.

Public participation activities for the U.S. Radium Corp. Site have been satisfied as required in CERCLA section 113(k), 42 U.S.C. 9613(k), and section 117, 42 U.S.C. 9617. The RI/FS and the RODs were subject to a public review process. All other documents and information which EPA relied on or considered in recommending that no further activities are necessary at a portion of the U.S. Radium Corp. Site, and that this portion of the Site can be deleted from the NPL, are available for the public to review at the information repositories.

One of the three criteria for Site deletion specifies that EPA may delete a Site, or a portion of a Site, from the NPL if “all appropriate Fund-financed response under CERCLA has been implemented, and no further response action by responsible parties is appropriate.” 40 CFR 300.425(e)(1)(ii). EPA, with the concurrence of the State of New Jersey, through the New Jersey Department of Environmental Protection, believes that this criterion for deletion has been met at 475 South Jefferson Street. Consequently, EPA is proposing deletion of this portion of the U.S. Radium Site from the NPL.

List of Subjects in 40 CFR Part 300

Environmental protection, Chemicals, Hazardous substances, Hazardous waste, Intergovernmental relations, Penalties, Reporting and recordkeeping requirements, Superfund, Water pollution control, Water supply.

Dated: June 10, 2004.
Anthony Cancro,
Acting Regional Administrator—Region 2.

For the reasons set out in the preamble, part 300, title 40 of Chapter I of the Code of Federal Regulations, is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to Part 300 is amended by adding a “P” in the Notes column in the entry for U.S. Radium Corp., Orange, New Jersey.

[FR Doc. 04-14218 Filed 6-23-04; 8:45 am]

BILLING CODE 6560-50-P